DEPARTMENT OF COMMERCE

National Oceanic and Atmospheric Administration

RIN 0648-XP88

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS, has made a preliminary determination that the subject exempted fishing permit (EFP) application contains all the required information and warrants further consideration. Therefore, NMFS announces that the Assistant Regional Administrator proposes to recommend that an EFP be issued that would allow four commercial fishing vessel to conduct fishing operations that are otherwise restricted by the regulations governing the fisheries of the Northeastern United States. The EFP, which would enable the applicants to land more than one standard tote of female red crabs and to conduct at-sea sampling and tagging, would allow for exemptions for up to four vessels from the Atlantic Deep-sea Red Crab Fishery Management Plan (FMP).

Regulations under the Magnuson-Stevens Fishery Conservation and Management Act require publication of this notification to provide interested parties the opportunity to comment on applications for proposed EFPs.

DATES: Comments must be received on or before July 8, 2009.

ADDRESSES: Comments on this notice may be submitted by e-mail to RedCrabEFP@noaa.gov. Include in the subject line of the e-mail comment the following document identifier: “Comments on Red Crab EFP.” Written comments should be sent to Patricia A. Kurkul, Regional Administrator, NMFS, Northeast Regional Office, 55 Great Republic Drive, Gloucester, MA 01930. Mark the outside of the envelope “Comments on Red Crab EFP.” Comments may also be sent via facsimile (fax) to (978) 281-9135.

FOR FURTHER INFORMATION CONTACT: Moira Kelly, Fishery Policy Analyst, phone: 978-281-9218, fax: 978-281-9135.

SUPPLEMENTARY INFORMATION: An application for an EFP was submitted on November 19, 2008, by Dr. Richard Wahle of the Bigelow Laboratory for Ocean Sciences; Dr. Yong Chen of the School of Marine Sciences, University of Maine; and Mr. Jon Williams of the New England Red Crab Harvesters' Association. A supplementary proposal was received on February 10, 2009, that provided greater detail on the harvest of female red crabs (Chaceon quinquidens).

This project is fully funded by the New England Red Crab Harvesters' Association. The primary goal of the experimental fishery is to begin harvesting non-egg bearing females to expand the red crab market and increase efficiency in the harvesting process. In addition, an experimental fishery that includes non-egg bearing females would provide an opportunity to conduct at-sea sampling, renewed tagging, and model development to better evaluate the growth and reproductive performance of the population, as well as the impact of current and proposed harvesting on yields and egg production. This aspect of the project would be conducted by an onboard researcher under the direction of Dr. Wahle. The objectives of this project are as follows:

1. Characterize regional variability in the reproductive characteristics of the red crab population along the geographic range of the fishery on the New England and mid-Atlantic shelf break;

2. Conduct tagging to evaluate growth rates that will facilitate the development of growth and yield and egg production models for the fishery; and

3. Develop yield and egg per recruit models to identify potential biological reference points for red crab stock assessment and to evaluate impacts of fishing on the female red crab resource.

The experimental design calls for normal commercial fishing operations, with the addition of retaining females. The research and experimental fishing would occur within the constraints of the current management measures, including possession limits and days-at-sea limits. The research would occur during normal fishing operations by sampling the catch to evaluate the size and sex composition of the catch, including the number of egg-bearing females. Further, the applicants propose to tag up to 20,000 crabs over 2 years to analyze growth. In order to allow for sufficient numbers of crabs for the tagging project, a small number of traps would be fitted with small mesh to trap smaller crabs. All crabs would be sorted and weighed, and crabs of marketable size would be retained for sale. All discards would be released as quickly as practicable to reduce incidental mortality. All at-sea research would be conducted from one of the four active red crab fishing vessels, fishing under that vessel's DAS.

The applicant may make requests to NMFS for minor modifications and extensions to the EFP throughout the year. EFP modifications and extensions may be granted by NMFS without further notice if they are deemed essential to facilitate completion of the proposed research and result in only a minimal change in the scope or impact of the initially approved EFP request. In accordance with NOAA Administrative Order 216-6, a Categorical Exclusion or other appropriate NEPA document would be completed prior to the issuance of the EFP. Further review and consultation may be necessary before a final determination is made to issue the EFP. After publication of this document in the Federal Register, the EFP, if approved, may become effective following a 15-day public comment period.

Authority: 16 U.S.C. 1801 et seq.

Dated: June 17, 2009.
Kristen C. Koch,
Acting Director, Office of Sustainable Fisheries, National Marine Fisheries Service.

[FR Doc. E9-14722 Filed 6-22-09; 8:45 am]

BILLING CODE 3510-22-S